DEPARTMENT OF ENERGY

Federal Energy Regulatory Commission

[Docket No. IC12-20-000]

Commission Information Collection Activities (FERC-912); Comment Request; Extension

AGENCY: Federal Energy Regulatory Commission.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-912, Cogeneration and Small Power Production, PURPA Section 210(m) Regulations for Termination or Reinstatement of Obligation to Purchase or Sell.

DATES: Comments on the collection of information are due November 19, 2012.

ADDRESSES: You may submit comments (identified by Docket No. IC12-20-000) by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-912, Cogeneration and Small Power Production, PURPA Section 210(m) Regulations for Termination or Reinstatement of Obligation to Purchase or Sell

OMB Control No.: 1902-0237

Type of Request: Three-year extension of the FERC-912 information collection requirements with no changes to the current reporting requirements.

Abstract: On 8/8/2005, the Energy Policy Act of 2005 (EPAct 2005) ¹ was signed into law. Section 1253(a) of EPAct 2005 amends Section 210 of the Public Utility Regulatory Policies Act of 1978 (PURPA) by adding subsection “(m)” that provides for the termination and reinstatement of an electric utility's obligation to purchase and sell energy and capacity. 18 CFR 292.309-292.313 are the implementing regulations that provide procedures for:

¹ Public Law 109-58, 119 Stat. 594 (2005)

• An electric utility to file an application for the termination of its obligation to purchase energy from a Qualifying Facility (QF) ²;

² Contained within 18 CFR 292.310.

• An affected entity or person to apply to the Commission for an order reinstating the electric utility's obligation to purchase energy from a QF ³;

³ Contained within 18 CFR 292.311.

• An electric utility to file an application for the termination of its obligation to sell energy and capacity to QFs ⁴; and

⁴ Contained within 18 CFR 292.312.

• An affected entity or person to apply to the Commission for an order reinstating the electric utility's obligation to sell energy and capacity to QFs ⁵.

⁵ Contained within 18 CFR 292.313.

Type of Respondents: FERC-jurisdictional electric utilities.

Estimate of Annual Burden ⁶: The Commission estimates the total Public Reporting Burden for this information collection as:

⁶ The Commission defines burden as the total time, effort, or financial resources expended by persons to generate, maintain, retain, or disclose or provide information to or for a Federal agency. For further explanation of what is included in the information collection burden, reference 5 Code of Federal Regulations 1320.3.

FERC-912 (IC12-20-000): Cogeneration and Small Power Production, PURPA Section 210(m) Regulations for Termination or Reinstatement of Obligation to Purchase or Sell
| Number of respondents | Number of responses per respondent | Total number of responses | Average burden hours per response | Estimated total annual burden
| (A) | (B) | (A) × (B) = (C) | (D) | (C) × (D)
Termination of obligation to purchase ² | 5 | 1 | 5 | 12 | 60
Reinstatement of obligation to purchase ³ | 1 | 1 | 1 | 13 | 13
Termination of obligation to sell ⁴ | 1 | 1 | 1 | 12 | 12
Reinstatement of obligation to sell ⁵ | 1 | 1 | 1 | 13 | 13
Total |  |  |  |  | 98

The total estimated annual cost burden to respondents is $6762.94 [98 hours ÷ 2080 ⁷ hours per year = 0.047 * 143,540/years ⁸ = $6762.94]

⁷ 2080 hours/year = 40 hours/week * 52 weeks/year.

⁸ Average annual salary per employee in 2012.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 14, 2012.
Kimberly D. Bose,
Secretary.

[FR Doc. 2012-23221 Filed 9-19-12; 8:45 am]

BILLING CODE 6717-01-P